ENVIRONMENTAL PROTECTION AGENCY

[FRL-7836-9]

Gulf of Mexico Program Policy Review Board Meeting

AGENCY: Environmental Protection Agency ( EPA).

ACTION: Notice of meeting.

SUMMARY: Under the Federal Advisory Committee Act (Pub. L. 92-463), EPA gives notice of a meeting of the Gulf of Mexico Program (GMP) Policy Review Board (PRB).

DATES: The meeting will be held on Thursday, December 2, 2004, from 8:30 a.m. to 3 p.m.

ADDRESSES: The meeting will be held at the Wyndham New Orleans at Canal Place, 100 Rue Iberville, New Orleans, LA 70130 (504) 566-7006.

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda topics include: FY 2004 Program Accomplishments; Executive Order Status/Next Steps; Key Ocean Commission Activities Relevant to the Gulf of Mexico; Overview and Status Report on June 2004 Report on Methylmercury in the Gulf of Mexico; Review of Industry-Led Solutions Proposal for Collaborative Gulf Hypoxia Support; Update on GMP Efforts to Help Strengthen Coastal America; Review of FY 2005 GMP Workplan.

The meeting is open to the public.

Dated: November 2, 2004.
Gloria D. Car,
Designated Federal Officer.

[FR Doc. 04-25067 Filed 11-9-04; 8:45 am]

BILLING CODE 6560-50-P